DEPARTMENT OF COMMERCE

National Oceanic and Atmospheric Administration

[Docket No. 020418091-3272-02]

Ballast Water Technology Demonstration Program: Request for Proposals for Fiscal Year 2004

AGENCY: National Oceanic and Atmospheric Administration (NOAA), Department of Commerce (DOC).

ACTION: Notice of request for proposals.

SUMMARY: The National Oceanic and Atmospheric Administration (NOAA), in cooperation with the U.S. Fish and Wildlife Service (Service) and the U.S. Maritime Administration (MARAD), publishes this notice to solicit proposals to conduct ballast water treatment technology testing and demonstration projects. The Ballast Water Technology Demonstration Program supports projects to develop, test, and demonstrate technologies that treat ships' ballast water in order to reduce the threat of introduction of aquatic invasive species to U.S. waters through the discharge of ballast water. The technologies being proposed for investigation should have promise of being effective at removing, inactivating, or preventing the transfer of aquatic organisms in the ballast water, should be practicable from the standpoint of ship operations, safety, environmental protection, and the ability to meet all regulatory requirements, and should have the potential to be developed into commercially viable product.

DATES: Preliminary proposals must be received by 5 p.m. e.s.t. February 13, 2004. Full proposals must be received by 5 p.m. e.s.t. on February 17, 2004. Only those who submit preliminary proposals by the preliminary proposal deadline are eligible to submit full proposals.

ADDRESSES: Proposals must be submitted to: National Sea Grant College Program, R/SG, Attn: Ballast Water Competition, Room 11841, NOAA, 1315 East-West Highway, Silver Spring, MD 20910. Phone number for express mail applications is 301-713-2435.

Electronic Access: The full funding announcement is available via the Ballast Water Program Web site noted below or NOAA's grant opportunities Web site: http://www.ofa.noaa.gov/~amd/SOLINDEX.HTML or through the FedGrants Web site: http://www.fedgrants.gov or by contacting the program officials identified above.

FOR FURTHER INFORMATION CONTACT: Information Contact(s): Dorn Carlson at the above address, 301-713-2435; via Internet at Dorn.Carlson@noaa.gov; or Pamela Thibodeaux, U.S. Fish and Wildlife Service, 703-358-2493; via Internet at Pamela Thibodeaux@fws.gov; or Deborah Aheron, U.S. Maritime Administration, 202-366-8887; via Internet at Deborah.Aheron@marad.dot.gov. Further information can be obtained from the above information contacts, or on the Ballast Water Program Web site: http://www.nsgo.seagrant.org/research/nonindigenous/ballast.

SUPPLEMENTARY INFORMATION: NOAA published an omnibus notice announcing the availability of grant funds for both projects and fellowships/scholarships/internships for Fiscal Year 2004 in the Federal Register on June 30, 2003 (68 FR 38678). That notice indicated that additional program initiatives, such as the Ballast Water Technology Demonstration Program, might be announced in subsequent Federal Register notices. The evaluation criteria and selection factors for projects contained in the June 30, 2003, Omnibus notice are applicable to this solicitation. For a copy of the June 30, 2003, omnibus notice, please go to: http://www.ofa.noaa.gov/amd/~SOLINDEX.HTML.

Statutory Authority: 16 U.S.C. 4701 et seq.; 33 U.S.C. 1121-1131; 46 U.S.C. App 1211 (2000); 50 U.S.C. App 1744 (2000).

CFDA: 11.417, Sea Grant Support; 15.FFA Fish and Wildlife Management Assistance

Program Description

The National Oceanic and Atmospheric Administration (NOAA), the U.S. Fish and Wildlife Service (Service), and the U.S. Maritime Administration (MARAD) expect to entertain proposals to conduct ballast water treatment technology testing and demonstration projects. The Ballast Water Technology Demonstration Program supports projects to develop, test, and demonstrate technologies that treat ships' ballast water in order to reduce the threat of introduction of aquatic invasive species to U.S. waters through the discharge of ballast water. The technologies being proposed for investigation should have promise of being effective at removing, inactivating, or preventing the transfer of aquatic organisms in the ballast water, should be practicable from the standpoint of ship operations, safety, environmental protection, and the ability to meet all regulatory requirements, and should have the potential to be developed into commercially viable product. Technology demonstration proposals must include a long-term development plan that outlines how the technology will be developed from its current state into an effective, commercially viable ballast water treatment system, and how the proposed project is an essential part of this development.

Funding Availability

Depending on 2004 appropriations, NOAA and the U.S. Fish and Wildlife Service expect to make available up to about $2 million in FY 2004, and MARAD expects to make available several vessels for use as test platforms, to support ballast water treatment technology demonstration projects. The maximum amount of award will vary with the scale of the proposed project. Anticipated maximum awards for laboratory-scale experiments will be $200,000; for full-scale demonstration projects, $400,000. If $2 million is made available, approximately 10 grants with a median value of about $160,000 are anticipated to be awarded. Cost Sharing Requirements: None.

Eligibility

Individuals, institutions of higher education, nonprofit organizations, commercial organizations, Federal, State, local and Indian tribal governments, foreign governments, organizations under the jurisdiction of foreign governments, and international organizations are eligible. Only those who submit preliminary proposals by the preliminary proposal deadline are eligible to submit full proposals.

Proposal Review and Selection Process for Projects

An initial administrative review is conducted at both the preliminary and full proposal stages to determine compliance with requirements and completeness of the application. This program includes a pre-application process that provides an initial review and feedback to the applicants. Preliminary proposals will not be subjected to a selection process. They will be used to assess the nature of full applications to be expected, to select appropriate technical reviewers for full applications, and to develop technical and formatting guidance that will be supplied to all applicants who submitted preliminary applications, to assist them in writing their full applications. All those (and only those) who submitted preliminary proposals meeting the deadline and other requirements of this notice are eligible to submit full proposals.

Full proposals are subject to merit review which is conducted by mail reviewers and/or peer panels consisting of government, academic, and industry experts. Each reviewer will individually evaluate and rank proposals using the evaluation criteria. There will be no consensus advice given by the mail reviewers or review panel. A minimum of three merit reviewers will review each proposal. The merit reviewers' ratings are used to produce a rank order of the proposals. Their recommendations and evaluations will be considered by the Federal Program Officers for NOAA, the Service, and MARAD who will award in rank order of the merit review ratings unless the proposal is justified to be selected out of rank order based upon the appropriate selection factors.

Federal Program Officers from NOAA, the Service, and MARAD will make the final recommendations concerning proposals for funding and will work together to reach decisions, but the final responsibility for making decisions regarding disposition of funds and other resources rests with the agency that is providing that resource. Applicants may be asked to respond to questions or modify objectives, work plans, or budgets prior to final approval of the award. Subsequent grant administration procedures will be in accordance with current DOC or DOI grants procedures. Grants officers from each of the respective agencies are the officials authorized to make awards and obligate funds.

Intergovernmental Review

Applications under this program are not subject to Executive Order 12372, “Intergovernmental Review of Federal Programs.”

Limitation of Liability

Funding for the program listed in this notice is contingent upon the availability of Fiscal Year 2004 appropriations. NOAA issues this notice subject to the appropriations made available under the current continuing resolution, H.J. Res. 69, “Making continuing appropriations for the fiscal year 2004, and for other purposes,” Public Law 108-84, as amended by H.J. Res. 75, Public Law 108-104, H.J. Res. 76, Public Law 108-107, and H.J. Res. 79, Public Law 108-135. NOAA, the Service, and MARAD anticipate making awards for the program listed in this notice provided that funding for the program is continued beyond January 31, 2004, the expiration of the current continuing resolution. In no event will NOAA, the Service, or MARAD be responsible for proposal preparation costs if this program fails to receive funding or is cancelled because of other agency priorities. Publication of this announcement does not oblige NOAA, the Service, or MARAD to award any specific project or to obligate any available funds.

Universal Identifier

Applicants should be aware that, for programs that have deadline dates on or after October 1, 2003, they will be required to provide a Dun and Bradstreet Data Universal Numbering System (DUNS) number during the application process. See the June 27, 2003 (68 FR 38402) Federal Register notice for additional information. Organizations can receive a DUNS number at no cost by calling the dedicated toll-free DUNS Number request line at 1-866-705-5711 or via the Internet (http://www.dunandbradstreet.com).

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to the awards made by NOAA.

Paperwork Reduction Act

Applications involve collection-of-information requirements subject to the Paperwork Reduction Act (PRA). The use of Standard Forms 424 and 424A, 424B, SF-LLL, and CD-346 has been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: January 12, 2004.
Louisa Koch,
Deputy Assistant Administrator, Office of Oceanic and Atmospheric Research, National Oceanic and Atmospheric Administration.

[FR Doc. 04-950 Filed 1-15-04; 8:45 am]

BILLING CODE 3510-KA-P